DEPARTMENT OF AGRICULTURE

Agricultural Marketing Service

7 CFR Part 800

[Doc. No. AMS-FGIS-24-0027]

RIN 0581-AE31

Formulas for Calculating Hourly and Unit Fees for FGIS Services; Correction

AGENCY: Agricultural Marketing Service, Department of Agriculture (USDA).

ACTION: Notice of proposed rulemaking; correction.

SUMMARY: The Agricultural Marketing Service (AMS), Federal Grain Inspection Service (FGIS or Service) published a proposed rulemaking in the Federal Register of October 8, 2024, concerning amendments to its user fee regulations to establish standardized formulas the agency would use to calculate hourly and unit fees. This document will correct the Regulation Identifier Number (RIN) used in the proposed rule.

DATES: Comments are due on or before November 22, 2024.

FOR FURTHER INFORMATION CONTACT: Denise Ruggles, Executive Program Analyst, USDA, AMS, FGIS, Telephone: 816-702-3897, Email: Denise.M.Ruggles@usda.gov; or Anthony Goodeman, Senior Policy Advisor, USDA, AMS, FGIS, Telephone: 202-720-2091, Email: Anthony.T.Goodeman@usda.gov.

SUPPLEMENTARY INFORMATION:

Correction

In the proposed rulemaking FR Doc. 2024-23192, on page 81396 in the issue of October 8, 2024, making the following correction in the preamble header. On page 81396, in the first column, correct the RIN to read: “0581-AE31.”

Melissa Bailey,
Associate Administrator, Agricultural Marketing Service.

[FR Doc. 2024-23793 Filed 10-15-24; 8:45 am]

BILLING CODE P